DEPARTMENT OF THE INTERIOR

National Park Service

[NPS-WASO-NRNHL-24821; PPWOCRADI0, PCU00RP14.R50000]

National Register of Historic Places; Notification of Pending Nominations and Related Actions

AGENCY: National Park Service, Interior.

ACTION: Notice.

SUMMARY: The National Park Service is soliciting comments on the significance of properties nominated before December 23, 2017, for listing or related actions in the National Register of Historic Places.

DATES: Comments should be submitted by February 13, 2018.

ADDRESSES: Comments may be sent via U.S. Postal Service and all other carriers to the National Register of Historic Places, National Park Service, 1849 C St. NW, MS 7228, Washington, DC 20240.

SUPPLEMENTARY INFORMATION: The properties listed in this notice are being considered for listing or related actions in the National Register of Historic Places. Nominations for their consideration were received by the National Park Service before December 23, 2017. Pursuant to section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

ARKANSAS

Mississippi County

Sherman Mound and Village, Address Restricted, Osceola vicinity, SG100002062

FLORIDA

Alachua County

Bethlehem Presbyterian Church, 16979 SW 137 Ave., Archer, SG100002065

Levy County

Knotts, Eugene, House, 1 Genie Ct., Yankeetown, MP100002066

MICHIGAN

Genesee County

Coolidge, Calvin, Elementary School, 3701 Van Buren Ave., Flint, SG100002067

NEVADA

Clark County

Church of Jesus Christ of Latter Day Saints Administration and Cultural Center, 821 N Las Vegas Blvd., Las Vegas, SG100002069

Lincoln County

Pioche Firehouse, Lots 3 & 32, Block 1 of Pioche Townsite, N of Main St. & Lacour, Pioche, MP100002070

White Pine County

Ely City Hall and Fire Station, 501 Mill St., Ely, MP100002071

NEW YORK

Bronx County

Saxe Embroidery Company Building, 511-513 E 164th St., Bronx, SG100002072

Dutchess County

New Guinea Community Site, Address Restricted, Hyde Park vicinity, SG100002073

Kings County

Ridgewood Reservoir, Jackie Robinson Pkwy., Vermont Pl., Cypress Hills St. & Highland Blvd., Brooklyn, SG100002074

Madison County

Wampsville Presbyterian Church, 109 Geneessee St., Wampsville, SG100002075

New York County

Greenacre Park, 217 E 51st St., New York, SG100002076

LANAI (yacht), 79th St. Boat Basin, New York, SG100002077

Onondaga County

Lipe-Rollway Corporation Building, 1153 W Fayette St., Syracuse, MP100002078

Queens County

Old Town of Flushing Burial Ground, 46th Ave. between 164th & 165th St., Queens, SG100002079

Suffolk County

Smith-Ransome Japanese Bridge, Merkel Lane, Shelter Island, SG100002080

Ulster County

Bellows, George W., House, 9 Bellows Ln., Woodstock, SG100002081

Kingston City Almshouse, 300 Flatbush Ave., Kingston, SG100002082

Trumbull, John H. and Sarah, House, 80 Marius St., Kingston, SG100002083

SOUTH CAROLINA

Greenville County

Judson Mill, 701 Easley Bridge Rd., Greenville vicinity, SG100002084

Spring Park Inn, 301 Old Buncombe Rd., Travelers Rest, SG100002085

TEXAS

Comal County

Walzem Homestead, 690 Mission Valley Rd., New Braunfels, SG100002086

Harris County

Downtown Houston Post Office, Processing and Distribution Center, 401 Franklin St., Houston, SG100002087

WISCONSIN

Dodge County

Horicon State Bank, 326 E Lake St., Horicon, SG100002090

Door County

Teweles and Brandeis Grain Elevator, 92 E Maple St., Sturgeon Bay, SG100002091

Jefferson County

Beck, Michael and Margaritha, Farmstead, W2803 US 18, Jefferson, SG100002092

Additional documentation has been received for the following resources:

ARKANSAS

Pulaski County

Capitol View Neighborhood Historic District, Roughly bounded by Riverview Dr., Schiller St., W. 7th St. and Woodrow St., Little Rock, AD00000813

South Main Street Residential Historic District, South Main St. from 19th St. to 24th St., Little Rock, AD07000436

UTAH

Salt Lake County

Wheeler, Henry J., Farm, 6343 S. 900 East, Salt Lake City, AD76001832

Walton, Wesley and Frances, House, 5197 S. Wesley Rd., Salt Lake City, AD95000983

Authority: 60.13 of 36 CFR part 60.

Dated: December 29, 2017.
J. Paul Loether,
Chief, National Register of Historic Places/National Historic Landmarks Program and Keeper of the National Register of Historic Places.

[FR Doc. 2018-01632 Filed 1-26-18; 8:45 am]

BILLING CODE 4312-52-P